DEPARTMENT OF DEFENSE

Department of the Army

Environmental Impact Statement for Short Range-Projects and Update of the Real Property Master Plan for Fort Belvoir, VA

AGENCY: Department of the Army, DoD.

ACTION: Notice of Intent.

SUMMARY: The Department of the Army announces its intent to conduct public scoping under the National Environmental Policy Act (NEPA) to gather information to prepare an Environmental Impact Statement (EIS) for proposed short-range improvement projects and the proposed update of the Real Property Master Plan (RPMP) for Fort Belvoir, VA. The EIS will analyze environmental impacts associated with the proposed short-range projects and anticipated land uses designated in a revised RPMP. The revised RPMP will incorporate a short-range component and a long-range component. The short-range component projects are proposed for the next five years, and the long-range component looks at land uses and potential development through 2030. The EIS will assess potential environmental impacts associated with future development and management of land, facilities, resources and infrastructure based on the population capacity identified in the revised RPMP. Additional site-specific NEPA analyses will be prepared for future development projects identified in the long-range component of the revised RPMP. The revised RPMP will incorporate adjustments to the land use plan in the RPMP that were made in the Final Environmental Impact Statement for Implementation of Base Realignment and Closure (BRAC) Recommendations and Related Army Actions at Fort Belvoir, VA (2007) and BRAC-related changes made since 2007.

ADDRESSES: Please send written comments to: Fort Belvoir Directorate of Public Works, Environmental and Natural Resources Division (RPMP EIS), 9430 Jackson Loop, Suite 200, Fort Belvoir, VA 22060-5116; or by email to imcom.fortbelvoir.dpw.environmental@us.army.mil.

FOR FURTHER INFORMATION CONTACT: Fort Belvoir Directorate of Public Works, Environmental and Natural Resources Division at (703) 806-4007 or (703) 806-3193, during normal working business hours Monday-Friday, 8 a.m. to 4:00 p.m.; or by email to imcom.fortbelvoir.dpw.environmental@us.army.mil.

SUPPLEMENTARY INFORMATION: The analysis will focus on Fort Belvoir's Main Post (7,700 acres) and the Fort Belvoir North Area (800 acres, formerly called the Engineer Proving Ground). The update will not include Fort Belvoir property at Rivanna Station in Charlottesville, VA; the Mark Center in Alexandria, VA; or the Humphreys Engineer Center.

The EIS will analyze environmental impacts of the short-range projects currently programmed for construction in fiscal years 2013-2017. These projects include new office buildings; community and recreational facilities; a Fisher House; industrial and maintenance facilities; privatization of utilities; long-term lease of additional land to the privatized housing partner; the National Museum of the U.S. Army; and roads. If and when these projects are completed, approximately 4,800 additional employees would be expected to work at Fort Belvoir.

The Army is also updating its RPMP for Fort Belvoir by analyzing the on-post and off-post environmental impacts of reasonably foreseeable future development and management of real property (land uses, facilities, resources, infrastructure, and population capacity. The EIS will assess the potential direct, indirect, and cumulative environmental impacts associated with updating the RPMP to meet the Army's current and future planning needs.

A range of reasonable alternatives will be analyzed in the EIS. Alternatives will reflect various scenarios for implementation of the short-range projects, combined with various scenarios for land use designations on the installation for longer range planning. The EIS will also consider a No Action alternative, under which the approved 1993 Master Plan (as amended in the 2007 BRAC EIS) would remain in effect. Other reasonable alternatives identified during the scoping process will be considered for evaluation in the EIS.

The proposed short-range projects at Fort Belvoir could have significant impacts to traffic, air quality, and natural, cultural, and other resources. Long-range development could have significant impacts to the same resources. Mitigation measures will be identified for adverse impacts.

Scoping and public comments: Federally-recognized Indian tribes, federal, state, and local agencies, organizations, and the public are invited to be involved in the scoping process for the preparation of this EIS by participating in meetings and/or submitting written comments. The scoping process will help identify possible alternatives, potential environmental impacts, and key issues of concern to be analyzed in the EIS. Written comments will be accepted within 30 days of publication of the NOI in the Federal Register. Meetings will be held in Alexandria, VA. Notification of the times and locations for the scoping meetings will be published locally.

Brenda S. Bowen,
Army Federal Register Liaison Officer.

[FR Doc. 2012-22225 Filed 9-7-12; 8:45 am]

BILLING CODE 3710-08-P